DEPARTMENT OF TRANSPORTATION

Federal Aviation Administration

Membership in the National Parks Overflights Advisory Group

AGENCY: Federal Aviation Administration, (FAA), DOT.

ACTION: Solicitation of applications.

SUMMARY: The Federal Aviation Administration (FAA) and the National Park Service (NPS) invite interested persons to apply to fill one current and two upcoming vacancies on the National Parks Overflights Advisory Group (NPOAG). This notice invites interested persons to apply to fill the openings. The current opening represents Native American tribal concerns and the two upcoming openings represent air tour operator interests and environmental concerns, respectively.

DATES: Persons interested in these membership openings will need to apply by July 5, 2019.

FOR FURTHER INFORMATION CONTACT: Keith Lusk, Special Programs Staff, Federal Aviation Administration, Western-Pacific Region Headquarters, 777 S. Aviation Boulevard, Suite 150, El Segundo, CA 90245, telephone: (424) 405-7017, email: Keith.Lusk@faa.gov.

SUPPLEMENTARY INFORMATION:

Background

The National Parks Air Tour Management Act of 2000 (the Act) was enacted on April 5, 2000, as Public Law 106-181, and subsequently amended in the FAA Modernization and Reform Act of 2012. The Act required the establishment of the advisory group within 1 year after its enactment. The NPOAG was established in March 2001. The advisory group is comprised of a balanced group of representatives of general aviation, commercial air tour operations, environmental concerns, and Native American tribes. The Administrator of the FAA and the Director of NPS (or their designees) serve as ex officio members of the group. Representatives of the Administrator and Director serve alternating 1-year terms as chairman of the advisory group.

In accordance with the Act, the advisory group provides “advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Membership

The current NPOAG is made up of one member representing general aviation, three members representing the commercial air tour industry, four members representing environmental concerns, and two members representing Native American interests. Current members of the NPOAG are as follows:

Melissa Rudinger representing general aviation; Alan Stephen, Eric Lincoln, and Matt Zuccaro represent commercial air tour operators; Rob Smith, Dick Hingson, Les Blomberg, and John Eastman represent environmental interests; and Carl Slater represents Native American tribes with one current opening. Mr. Smith's 3-year term expires on July 4, 2019 and Mr. Zuccaro's 3-year term expires on September 9, 2019.

Selections

In order to retain balance within the NPOAG, the FAA and NPS are seeking candidates interested in filling the one vacant seat representing Native American tribal concerns and the two upcoming vacant seats representing air tour operator interests and environmental concerns. The FAA and NPS invite persons interested in these openings on the NPOAG to contact Mr. Keith Lusk (contact information is written above in FOR FURTHER INFORMATION CONTACT). Requests to serve on the NPOAG must be made to Mr. Lusk in writing and postmarked or emailed on or before July 5, 2019. The request should indicate whether or not you are a member of a Native American tribe, an air tour operator association or company, or whether you are a member of an environmental group or association. The request should also state what expertise you would bring to the NPOAG as related to issues and concerns with aircraft flights over national parks and/or tribal lands. The term of service for NPOAG members is 3 years. Current members may re-apply for another term.

On August 13, 2014, the Office of Management and Budget issued revised guidance regarding the prohibition against appointing or not reappointing federally registered lobbyists to serve on advisory committees (79 FR 47482).

Therefore, before appointing an applicant to serve on the NPOAG, the FAA and NPS will require the prospective candidate to certify that they are not a federally registered lobbyist.

Issued in El Segundo, CA, on May 21, 2019.
Keith Lusk,
Program Manager, Special Programs Staff, Western-Pacific Region.

[FR Doc. 2019-11499 Filed 5-31-19; 8:45 am]

BILLING CODE 4910-13-P